FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Wednesday, October 19, 2016, to consider the following matters:

Summary Agenda: No substantive discussion of the following items is anticipated. These matters will be resolved with a single vote unless a member of the Board of Directors requests that an item be moved to the discussion agenda.

Disposition of minutes of previous Board of Directors' Meetings.

Memorandum and resolution re: Temporary Waiver of Appraisal Requirements for Certain Areas of Louisiana affected by Flooding.

Memorandum and resolution re: Review of Regulations Transferred from the Former Office of Thrift Supervision: Part 391, Subpart A—Security Procedures.

Memorandum and resolution re: Notice of Proposed Rulemaking to Implement Requirements of the Biggert-Waters Flood Insurance Reform Act of 2012.

Memorandum and resolution re: Final Rulemaking—Expanded Examination Cycle for Certain Small Insured Depository Institutions and U.S. Branches and Agencies of Foreign Banks.

Summary reports, status reports, and reports of actions taken pursuant to authority delegated by the Board of Directors.

Discussion Agenda:

Memorandum and resolution re: Advance Notice of Proposed Rulemaking—Interagency Enhanced Cyber Risk Management Standards.

The meeting will be held in the Board Room located on the sixth floor of the FDIC Building located at 550 17th Street NW., Washington, DC.

This Board meeting will be Webcast live via the Internet and subsequently made available on-demand approximately one week after the event. Visit http://fdic.windrosemedia.com to view the event.

If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: October 12, 2016.
Federal Deposit Insurance Corporation.
Robert E. Feldman,
Executive Secretary.

[FR Doc. 2016-25110 Filed 10-13-16; 11:15 am]

BILLING CODE P